DEPARTMENT OF LABOR

Office of the Secretary

Submission for OMB Review: Comment Request

January 30, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Blasting Operations and the Use of Explosives (29 CFR part 1926, Subpart U).

OMB Number: 1218-0217.

Frequency: On occasion and Weekly.

Type of Response: Recordkeeping and Third party disclosure.

Affected Public: Business or other for-profit; Federal Government; and State, Local, or Tribal Government.

Number of Respondents: 161.

Number of Annual Responses: 217.

Estimated Time per Response: 8 hours to develop an alternative plan if an employer is unable to display adequate warning signs against the use of mobile transmitters during blasting operations; 5 minutes for maintaining and disclosing the alternative plan; and 15 minutes to certify the weekly electrical system inspection of trucks used for underground transportation of explosives.

Total Burden Hours: 1,293.

Total Annualized capital/startup costs: $0.

Total Annual Costs (operating/maintaining systems or purchasing services): $800,000.

Description: 29 CFR part 1926, subpart U and its collections of information provide protection to employees who work with and around blasting operations. In addition, inventories of explosives must be maintained to assure employer and blaster accountability for explosives.

Ira L. Mills,
Departmental Clearance Officer.

[FR Doc. E6-1506 Filed 2-2-06; 8:45 am]

BILLING CODE 4510-26-P